DEPARTMENT OF TRANSPORTATION

Federal Railroad Administration

[Docket Number FRA-2006-24647]

Petition for Waiver of Compliance

Under part 211 of title 49 Code of Federal Regulations (CFR), this document provides the public notice that on September 3, 2021, the Hoosier Valley Railroad Museum (HVRM) petitioned the Federal Railroad Administration (FRA) for an extension of a waiver of compliance from certain provisions of the Federal railroad safety regulations contained at 49 CFR part 219, Control of Alcohol and Drug Use. The relevant FRA Docket Number is FRA-2006-24647.

Specifically, HVRM requests an extension of existing relief from 49 CFR part 219, subpart E, Reasonable Cause Testing; subpart G, Random Alcohol and Drug Testing Programs; and subpart K, Referral Programs.¹ HVRM is a volunteer-operated, non-profit operating railroad museum, located in North Judson, Indiana. HVRM requests this extension due to its limited weekend operating schedule and Chesapeake & Indiana Railroad's (CKIN) weekday schedule. On those few occasions each year where local communities have festivals, HVRM and CKIN maintain communication regarding HVRM's operation times.

¹ By rule dated June 10, 2016 (81 FR 37894), portions of 49 CFR part 219 were revised, which slightly changes the regulations from which HVRM now seeks relief versus relief sought in the past.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by November 18, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2021-21450 Filed 10-1-21; 8:45 am]

BILLING CODE 4910-06-P